NATIONAL TRANSPORTATION SAFETY BOARD

Sunshine Act Meeting

TIME AND DATE: 9:30 a.m., Tuesday, May 17, 2005.

PLACE: NTSB Board Room, 429 L'Enfant Plaza, SW., Washington, DC 20594.

STATUS: The one item Open to the Public.

MATTER TO BE CONSIDERED:

7632A Aircraft Accident Report—Hard landing, gear collapse, Federal Express Flight 647, Boeing MD-10-10F, N364FE, Memphis, Tennessee, December 18, 2003.

News Media Contact: Telephone: (202) 314-6100.

Individuals requesting specific accommodations should contact Ms. Carolyn Dargan at (202) 314-6305 by Friday, May 13, 2005.

The public may view the meeting via a live or archived webcast by accessing a link under “News & Events” on the NTSB home page at http://www.ntsb.gov.

FOR FURTHER INFORMATION CONTACT: Vicky D'Onofrio, (202) 314-6410.

Dated: May 6, 2005.
Vicky D'Onofrio,
Federal Register Liaison Officer.

[FR Doc. 05-9425 Filed 5-6-05; 2:12 pm]

BILLING CODE 7533-01-M